DEPARTMENT OF HOUSING AND URBAN DEVELOPMENT

[Docket No. FR-5480-N-26]

Notice of Submission of Proposed Information Collection to OMB; Emergency Comment Request; Homelessness Prevention Study

AGENCY: Office of the Chief Information Officer, HUD.

ACTION: Notice.

SUMMARY: The proposed information collection requirement described below has been submitted to the Office of Management and Budget (OMB) for review, as required by the Paperwork Reduction Act. The Department is soliciting public comments on the subject proposal.

This is a new information collection request. The Department of Housing and Urban Development is seeking emergency review of the Paperwork Reduction Act requirements associated with HUD's Homelessness Prevention Study. This information collection request includes a survey instrument that will be administered to a nationally-representative sample of Homelessness Prevention and Rapid Re-housing Program (HPRP) grantees, as well as the site visit interview guide that will serve as the protocol for 15-18 site visits to be conducted to select HPRP grantees.

DATES: Comments Due Date: April 28, 2011.

ADDRESSES: Interested persons are invited to submit comments regarding this proposal. Comments should refer to the proposal by name and/or OMB approval Number (2528—Pending) and should be sent to: HUD Desk Officer, Office of Management and Budget, New Executive Office Building, Washington, DC 20503; e-mail OIRA-Submission@omb.eop.gov, fax: 202-395-5806.

FOR FURTHER INFORMATION CONTACT: Colette Pollard, Reports Management Officer, QDAM, Department of Housing and Urban Development, 451 Seventh Street, SW., Washington, DC 20410; e-mail Colette Pollard at Colette.Pollard@hud.gov; or telephone (202) 402-3400. This is not a toll-free number. Copies of available documents submitted to OMB may be obtained from Ms. Pollard.

SUPPLEMENTARY INFORMATION: This notice informs the public that the Department of Housing and Urban Development has submitted to OMB a request for approval of the Information collection described below. This notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This notice also lists the following information:

Title of Proposal: Homelessness Prevention Study.

OMB Approval Number: 2528—Pending.

Form Numbers: None.

Description of the Need for the Information and Its Proposed Use: This is a new information collection request. The Department of Housing and Urban Development is seeking emergency review of the Paperwork Reduction Act requirements associated with HUD's Homelessness Prevention Study. This information collection request includes a survey instrument that will be administered to a nationally-representative sample of Homelessness Prevention and Rapid Re-housing Program (HPRP) grantees, as well as the site visit interview guide that will serve as the protocol for 15-18 site visits to be conducted to select HPRP grantees.

Frequency of Submission: On occasion.

Estimation of the total numbers of hours needed to prepare the information collection including number of respondents, frequency of responses, and hours of responses: The estimated number of respondents to the survey instrument is 500 HPRP grantees and subgrantees; the frequency of response is once; and the total reporting burden will be approximately 150 hours. The estimated number of respondents who will participate in the site visit is approximately 124 individuals; the frequency of the response is once; and the total reporting burden will be approximately 93 hours.

Status: New Collection.

Authority: Section 3507 of the Paperwork Reduction Act of 1995, 44 U.S.C. 35, as amended.

Dated: March 22, 2011.
Colette Pollard,
Departmental Reports Management Officer.

[FR Doc. 2011-7270 Filed 3-28-11; 8:45 am]

BILLING CODE 4210-67-P